DEPARTMENT OF THE INTERIOR

Bureau of Land Management

[MT-924-1430-ET; MTM 72225]

Order Providing for Opening of Public Land; Montana

AGENCY: Bureau of Land Management, Interior.

ACTION: Notice.

SUMMARY: This order opens land reconveyed to the United States through exchange to surface entry, mining, and mineral leasing.

EFFECTIVE DATE: June 22, 2001.

FOR FURTHER INFORMATION CONTACT: Sandra Ward, BLM Montana State Office, P.O. Box 36800, Billings, Montana 59107-6800, 406-896-5052.

SUPPLEMENTARY INFORMATION: 1. The following-described land was acquired by the United States pursuant to section 206 of the Federal Land Policy and Management Act of 1976, 43 U.S.C. 1701 et seq. (FLPMA):

Principal Meridian, Montana

T. 12 N., R. 3 W.,

Sec. 28, SW¼NW¼.

2. At 9 a.m. on June 22, 2001, the land shall be opened to the operation of the public land laws generally, subject to valid existing rights, the provisions of existing withdrawals, other segregations of record, and the requirements of applicable law. All valid applications received at or prior to 9 a.m. on June 22, 2001, shall be considered as simultaneously filed at that time. Those received thereafter shall be considered in the order of filing.

3. At 9 a.m. on June 22, 2001, the land will be opened to location and entry under the United States mining laws and to the operation of the mineral leasing laws, subject to valid existing rights, the provision of existing withdrawals, other segregations of record, and the requirements of applicable law. Appropriation of any of the land described in this order under the general mining laws prior to the date and time of restoration is unauthorized. Any such attempted appropriation, including attempting adverse possession under 30 U.S.C. 38 (1994), shall vest no rights against the United States. Acts required to establish a location and to initiate a right of possession are governed by state law where not in conflict with Federal law. The Bureau of Land Management will not intervene in disputes between rival locators over possessory rights since Congress has provided for such determinations in local courts.

Dated: June 6, 2001.
Thomas P. Lonnie,
Deputy State Director, Division of Resources.

[FR Doc. 01-15705 Filed 6-21-01; 8:45 am]

BILLING CODE 4310-$$-P